FEDERAL COMMUNICATIONS COMMISSION

47 CFR Part 64

[CG Docket No. 10-51; FCC 11-54]

Structure and Practices of the Video Relay Service Program

AGENCY: Federal Communications Commission.

ACTION: Proposed rule.

SUMMARY: In this document, the Commission seeks comment on proposed modifications to its certification process for Internet-based relay providers to ensure that all entities seeking certification to provide Internet-based telecommunications relay services (TRS) in the future—or currently certified entities seeking re-certification—are fully qualified to provide Internet-based relay service in compliance with the Commission's rules and requirements, and to improve the Commission's oversight of these providers, once they have been certified.

DATES: Comments are due on or before June 1, 2011. Reply comments are due on or before June 16, 2011. Written comments on the Paperwork Reduction Act proposed information collection requirements must be submitted by the public, Office of Management and Budget (OMB), and other interested parties on or before July 1, 2011.

ADDRESSES: Interested parties may submit comments identified by [CG Docket No. 10-51 and/or FCC 11-54], by any of the following methods:

• Electronic Filers: Comments may be filed electronically using the Internet by accessing the Commission's Electronic Comment Filing System (ECFS), through the Commission's Web site http://fjallfoss.fcc.gov/ecfs2/. Filers should follow the instructions provided on the Web site for submitting comments. For ECFS filers, in completing the transmittal screen, filers should include their full name, U.S. Postal service mailing address, and CG Docket No. 10-51. Parties also may submit an electronic comment by Internet e-mail. To get filing instructions, filers should send an e-mail to ecfs@fcc.gov, and include the following words in the body of the message, “get form <your e-mail address>.” A sample form and directions will be sent in response.

• Paper filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• All hand-delivered or messenger-delivered paper filings for the Commission's Secretary must be delivered to FCC Headquarters at 445 12th St., SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street, SW., Washington, DC 20554.

In addition, parties must serve one copy of each pleading with the Commission's duplicating contractor, Best Copy and Printing, Inc., 445 12th Street, SW., Room CY-B402, Washington, DC 20554, or via e-mail to fcc@bcpiweb.com.

Document FCC 11-54 contains proposed information collection requirements subject to the PRA. It will be submitted to the Office of Management and Budget (OMB) for review under section 3507 of the PRA. OMB, the general public, and other Federal agencies are invited to comment on the proposed information collection requirements contained in this document. PRA comments should be submitted to Cathy Williams, Federal Communications Commission via email at PRA@fcc.gov and Cathy.Williams@fcc.gov, and to Nicholas A. Fraser, Office of Management and Budget, via fax at (202) 395-5167, or via e-mail to Nicholas_A._Fraser@omb.eop.gov.

FOR FURTHER INFORMATION CONTACT: Gregory Hlibok, Consumer and Governmental Affairs Bureau at (202) 559-5158 (VP), or e-mail: Gregory.Hlibok@fcc.gov. For additional information concerning the PRA information collection requirements contained in this document, contact Cathy Williams at (202) 418-2918, or email: Cathy.Williams@fcc.gov.

SUPPLEMENTARY INFORMATION: This is a synopsis of the Commission's Structure and Practices of the Video Relay Service Program, Further Notice of Proposed Rulemaking (VRS FNPRM), document FCC 11-54, adopted April 5, 2011, and released April 6, 2011, in CG Docket No. 10-51, seeking comment on proposed modifications to its certification process for all Internet-based relay providers. Simultaneously with the VRS FNPRM, the Commission issued a Report and Order in CG Docket No. 10-51. In the Report and Order, the Commission adopted rules to detect and prevent fraud and abuse in the provision of video relay service. The full text of FCC 11-54 and copies of any subsequently filed documents in this matter will be available for public inspection and copying during regular business hours at the FCC Reference Information Center, Portals II, 445 12th Street, SW., Room CY-A257, Washington, DC 20554. FCC 11-54 and copies of subsequently filed documents in this matter may also be purchased from the Commission's duplicating contractor at Portals II, 445 12th Street, SW., Room CY-B402, Washington, DC 20554. Customers may contact the Commission's duplicating contractor at its Web site, http://www.bcpiweb.com, or by calling 1-800-378-3160. FCC 11-54 can also be downloaded in Word or Portable Document Format (PDF) at: http://www.fcc.gov/cgb/dro/trs.html#orders.

Pursuant to 47 CFR 1.415 and 1.419, interested parties may file comments and reply comments on or before the dates indicated in the DATES section of this document. Comments and reply comments must include a short and concise summary of the substantive discussion and questions raised in the VRS FNPRM. The Commission further directs all interested parties to include the name of the filing party and the date of the filing on each page of their comments and reply comments. The Commission strongly encourages that parties track the organization set forth in the VRS FNPRM in order to facilitate its internal review process. Comments and reply comments must otherwise comply with 47 CFR 1.48 and all other applicable sections of the Commission's rules.

Pursuant to 47 CFR 1.1200 et. seq., this matter shall be treated as a “permit-but-disclose” proceeding in accordance with the Commission's ex parte rules. Persons making oral ex parte presentations are reminded that memoranda summarizing the presentations must contain summaries of the substances of the presentations and not merely a listing of the subjects discussed. More than a one or two sentence description of the views and arguments presented is generally required. Other rules pertaining to oral and written ex parte presentations in permit-but-disclose proceedings are set forth in 47 CFR 1.1206(b). To view a copy of this information collection request (ICR) submitted to OMB: (1) Go to the web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

People with Disabilities: To request materials in accessible formats for people with disabilities (Braille, large print, electronic files, audio format), send an e-mail to fcc504@fcc.gov or call the Consumer and Governmental Affairs Bureau at (202) 418-0530 (voice), (202) 418-0432 (TTY).

Initial Paperwork Reduction Act of 1995 Analysis

The Commission, as part of its continuing effort to reduce paperwork burdens, invites the general public and OMB to comment on the proposed information collection requirements contained in the document FCC 11-54, as required by the PRA, Public Law 104-13. Public and agency comments are due July 1, 2011. Comments should address: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

In addition, pursuant to the Small Business Paperwork Relief Act of 2002, Public Law 107-198, see 44 U.S.C. 3506(c)(4), the Commission seeks specific comment on how it may “further reduce the information collection burden for small business concerns with fewer than 25 employees.”

OMB Control Number: 3060-XXXX.

Title: Structure and Practices of the Video Relay Service Program, Further Notice of Proposed Rulemaking; CG Docket No. 10-51.

Form No.: N/A.

Type of Review: New collection.

Respondents: Business and other for-profit entities.

Number of Respondents and Responses: 11 respondents and 49 responses.

Estimated Time per Response: 1 hour to 75 hours.

Frequency of Response: Annual, one-time, and on occasion reporting requirements.

Obligation to Respond: Required to obtain or retain benefits. The statutory authority for these proposed information collections is found at section 225 of the Act, 47 U.S.C. 225. The law was enacted on July 26, 1990, as Title IV of the ADA, Public Law 101-336, 104 Stat. 327, 366-69.

Total Annual Hourly Burden: 1,033 hours.

Total Annual Costs: None.

Nature and Extent of Confidentiality: An assurance of confidentiality is not offered because this information collection does not require the collection of personally identifiable information (PII) from individuals.

Privacy Act Impact Assessment: No impacts.

Needs and Uses: In the VRS FNPRM, the Commission seeks comment on a number of proposed modifications to the Commission's certification process for all Internet-based relay providers to ensure that all entities seeking certification in the future are fully qualified to provide service in compliance with the Commission's rules and orders. The VRS FNPRM contains potential information collection requirements with respect to the following four of its proposals, all of which could further the aims of the VRS FNPRM.

(A) Whether potential Internet-based relay providers should be required to provide full and detailed information in its application for certification that show its ability to comply with the Commission's rules. The VRS FNPRM specifically proposes that provider applicants provide documentary and other evidence demonstrating that the applicant owns and operates facilities associated with TRS call centers, and employs ASL interpreters, on a full or part-time basis, to staff such call centers at the date of the application.

(B) Whether Internet-based relay providers should be required to submit annual reports that include updates to the information to the application for certification.

(C) Whether each certified Internet-based relay provider should be required to seek prior Commission authorization of any voluntary interruption in the provision of Internet-based TRS.

(D) Whether each certified Internet-based relay provider should be required to submit a written notification to Consumer and Governmental Affairs Bureau within two business days of when an unforeseen service interruption first occurred with an explanation of how the provision of its service had been restored or will be restored imminently.

Synopsis

1. In document FCC 11-54, the Commission seeks comment on a number of proposed modifications to our certification process for all Internet-based relay providers, including VRS providers, to ensure that all entities seeking certification in the future—or currently certified entities seeking re-certification—are fully qualified to provide Internet-based relay service in compliance with the Commission's rules, including all of the new obligations adopted in the accompanying Report and Order to reduce waste, fraud and abuse, and improve oversight of the Commission's relay programs.

2. The Commission proposes to ensure that the certification process enables the Commission to identify providers that are qualified to provide Internet-based relay services in accordance with our rules.

3. First, the Commission proposes that all Internet-based relay providers be required to receive certification from the Commission, under the procedures and guidelines proposed herein, to be eligible to receive compensation from the TRS Fund. Under this proposal, certification by the Commission would be the sole method by which an Internet-based TRS provider could become eligible to receive compensation from the TRS Fund. An Internet-based relay provider would no longer be permitted to receive compensation from the TRS Fund merely: (1) by virtue of its contract with a certified state TRS program; (2) through its contract with an interstate common carrier; (3) because it is an interstate common carrier; or (4) because it is certified by a state. Eligibility through these methods has failed to ensure that providers are qualified to provide VRS or to provide the Commission with the requisite information to determine whether providers are complying with the Commission's TRS rules.

4. The Commission proposes that all providers that are not already certified by the Commission, be required to apply to the Commission for certification to provide Internet-based TRS. The Commission further proposes that an applicant be certified or be permitted to renew its certification only upon a determination by the Commission that such applicant has adequately demonstrated its ability to comply with all of the Commission's rules, including those adopted in the accompanying Report and Order. The Commission proposes that mere attestations be inadequate to satisfy this standard. Instead, the Commission proposes requiring evidence of an applicant's ability to comply with the Commission's rules governing the qualifications of CAs, including speed of answer, facility redundancy to ensure continuance of the service, and other operational and technical standards designed to ensure provision of a service that is functionally equivalent to voice telephone service.

5. Specifically, the Commission proposes that applicants provide the following documentary and other evidence, as needed, demonstrating that the applicant owns and operates facilities associated with TRS call centers, and employs ASL interpreters, on a full or part-time basis, to staff such call centers at the date of the application:

• A copy of each deed or lease for each call center operated by the applicant;

• A list of individuals or entities that hold at least a 10 percent equity interest in the applicant, have the power to vote 10 percent or more of the securities of the applicant, or exercise de jure or de facto control over the applicant, a description of the applicant's organizational structure, including the names of its executives, officers, partners, and board of directors, as well as an attestation that no such individual has been convicted of a felony;

• A list of all of the names of applicant's full-time and part-time employees;

• Proofs of purchase or license agreements for use of all equipment and/or technologies, including hardware and software, used by the applicant for its call center functions, including but not limited to, ACD, routing, call setup, mapping, call features, billing for compensation from the TRS fund, and registration;

• Copies of employment agreements for all of the provider's executives and CAs;

• Copies of any subcontracting agreements for services not directly essential for the provision of Internet-based relay (such as maintenance and transportation services);

• A list of all financing arrangements pertaining to the provision of Internet-based relay service, including documentation on loans for equipment, inventory, property, promissory notes, and liens;

• Copies of all other agreements associated with the provision of Internet-based relay service; and

• A list of all sponsorship arrangements (e.g., those providing financial support or in-kind interpreting or personnel service for social activities in exchange for brand marketing), including any associated agreements.

6. In addition, the Commission proposes that the certification process include, at the Commission's discretion, other measures, including on-site visits to the premises of applicants, to assess the merits of certification applications, and seeks comment on what those measures may be. The Commission further seeks input on what other types of documentation the Commission should require, including the level of detail it should require, to ensure that it is able to assess whether an applicant is fully qualified to provide Internet-based relay service in compliance with the Commission's rules and requirements.

7. In order to be entitled to compensation from the TRS Fund for providing Internet-based TRS, the TRS provider's facilities must have redundancy features in the event of call center or network outages, as well comply with the other minimum standards that apply to all TRS. At present, however, the Commission's rules do not explicitly address the obligations associated with a provider's decision to temporarily cease its operations. To avoid future interruptions in service that may hamper the ability of relay customers to place Internet-based TRS calls, the Commission proposes requiring that each certified provider seek prior Commission approval of any voluntary interruption in the provision of Internet-based TRS. In order to comply with this requirement, the Commission proposes that a provider be directed to submit a written request to the Commission's CGB at least 60 days prior to any planned interruption, with detailed information of (1) Its justification for such service interruption; (2) its plan to notify customers about the impending interruption; and (3) its plans for resuming service, so as to minimize the impact of such interruption on consumers through a smooth transition of temporary service to another provider, and restoration of its service at the completion of such interruption.

8. The Commission further proposes delegating authority to the Consumer and Governmental Affairs Bureau (CGB) to grant or deny such requests for service interruptions, and provide a timely response to the provider, in order to afford an adequate period of notification to consumers. The Commission also proposes taking enforcement action against certified providers, including, but not limited to the revocation of their certifications and/or suspension of payment in the event that the provider voluntarily interrupts its service without sufficient prior notification to the Commission, or in the event that the requested cessation proceeds notwithstanding CGB's denial of the provider's request.

9. In order to ensure the seamless delivery of Internet-based TRS during any transition period following the Commission's establishment of new eligibility requirements and certification procedures, the Commission proposes to allow any provider currently eligible to receive compensation from the TRS Fund via a means other than FCC certification, concurrently with the submission of its application for Commission certification, to seek a temporary waiver of any new requirements to obtain certification from the Commission prior to offering Internet-enabled TRS, while its application is pending. The Commission seeks comment on what an applicant seeking such a waiver should have to demonstrate in order to establish that a temporary waiver of the certification requirement would serve the public interest. Further, in the event that an applicant's request for temporary waiver and/or application for certification is denied, the Commission proposes that the applicant be given at least 30 days to discontinue its service in order to allow its affected consumers sufficient time for transition to another eligible provider's service.

Initial Regulatory Flexibility Certification

10. The Regulatory Flexibility Act of 1980, as amended (RFA), requires that an initial regulatory flexibility analysis be prepared for notice-and-comment rulemaking proceedings, unless the agency certifies that “the rule will not, if promulgated, have a significant economic impact on a substantial number of small entities.” See 5 U.S.C. 603. The RFA, see 5 U.S.C. 601-612, has been amended by the Small Business Regulatory Enforcement Fairness Act of 1996 (SBREFA), Public Law 104-121, Title II, 110 Stat. 857 (1996). The RFA generally defines the term “small entity” to have the same meaning as the terms “small business,” “small organization,” and “small governmental jurisdiction.” In addition, the term “small business” has the same meaning as the term “small business concern” under the Small Business Act. A “small business concern” is one that: (1) Is independently owned and operated; (2) is not dominant in its field of operation; and (3) satisfies any additional criteria established by the Small Business Administration (SBA).

11. In document FCC 11-54, the Commission seeks further comment on a number of proposed modifications to our current eligibility requirements for Internet-based TRS providers, including VRS providers, that seek certification from the Commission to be eligible for compensation from the TRS Fund. The Commission seeks comment on these proposals to ensure that all entities seeking certification in the future—or currently certified entities seeking re-certification—are fully qualified to provide Internet-based relay service in compliance with our rules and requirements, including all of the revised obligations adopted in the accompanying Report and Order, to reduce waste, fraud and abuse, and improve oversight.

12. Specifically, the VRS FNPRM seeks comment on whether the Commission should require that all Internet-based TRS providers be certified by the Commission to become eligible to receive compensation from the TRS Fund. In addition, the Commission seeks comment on whether new and renewing applicants should provide specific documentary evidence of their ability to comply with our TRS rules. The Commission seeks comment on whether the certification process should include, at the Commission's discretion, other measures, including on-site visits to the premises of applicants, to assess the merits of certification applications. The Commission also proposes to revise its annual report filing guidelines to require further documentation.

13. The Commission further proposes to require that providers seek approval from the Commission for voluntary interruption of service, and that providers notify the Commission of unforeseen service interruptions in the provision of Internet-based TRS. Finally, the Commission proposes to allow a provider that is currently eligible to receive compensation from the TRS Fund via a means other than FCC certification, to file an application for certification under the Commission's new rules. While such a provider's application is pending, the Commission proposes to permit the applicant to seek a temporary waiver of any new requirements to obtain certification from the Commission prior to offering Internet-enabled TRS, to enable the provider to continue to receive compensation from the Fund and to continue providing Internet-based TRS while such provider's application is pending.

14. With regard to the economic impact of the VRS FNPRM, the Commission notes that all providers potentially affected by the proposed rules, including those deemed to be small entities under the SBA's standard, would be entitled to receive prompt reimbursement for their reasonable costs of compliance. Therefore, the Commission concludes that the VRS FNPRM, if adopted, will not have a significant economic impact on any entities. In addition, even if there were an adverse economic impact, no more than five of the eleven providers impacted by the proposed rules meet the definition of a small entity. The SBA has developed a small business size standard for Wired Telecommunications Carriers, which consists of all such firms having 1,500 or fewer employees.

15. Therefore, the Commission certifies that the proposals in the VRS FNPRM, if adopted, will not have a significant economic impact on a substantial number of small entities.

16. The Commission will send a copy of the VRS FNPRM, including a copy of this Initial Regulatory Flexibility Certification, to the Chief Counsel for Advocacy of the SBA.

Ordering Clauses

17. Pursuant to sections 1, 4(i), (j) and (o), 225, and 303(r), of the Communications Act of 1934, as amended, 47 U.S.C. 151, 154(i), (j) and (o), 225, and 303(r), document FCC 11-54 is adopted.

18. The Commission's Consumer and Governmental Affairs Bureau, Reference Information Center, shall send a copy of the Further Notice of Proposed Rulemaking, including the Initial Regulatory Flexibility Certification, to the Chief Counsel for Advocacy of the Small Business Administration.

List of Subjects in 47 CFR Part 64

Individuals with disabilities, Reporting and recordkeeping requirements; Telecommunications.

Federal Communications Commission.
Marlene H. Dortch,
Secretary.

Proposed Rules

For the reasons discussed in the preamble, the Federal Communications Commission proposes to amend 47 CFR part 64 as follows:

PART 64—MISCELLANEOUS RULES RELATING TO COMMON CARRIERS

1. The authority citation for part 64 is revised to read as follows:

Authority: 47 U.S.C. 154, 254 (k); secs. 403 (b)(2) (B), (c), Pub. L. 104-104, 110 Stat. 56. Interpret or apply 47 U.S.C. 201, 218, 222, 225, 226, 228, 254 (k), and 620, unless otherwise noted.

Subpart F—Telecommunications Relay Services and Related Customer Premises Equipment for Persons With Disabilities

2. The authority citation for Subpart F is revised to read as follows:

Authority: 47 U.S.C. 151-154; 225, 255, 303(r), and 620.

3. Section 64.604 is amended by revising paragraph (c)(5)(iii)(F) to read as follows:

§ 64.604 Mandatory minimum standards.

* * * * *

(c) * * *

(5) * * *

(iii) * * *

(F) Eligibility for Payment from the TRS Fund. (1) TRS providers, except Internet-based TRS providers, eligible for receiving payments from the TRS Fund must be:

(i) TRS facilities operated under contract with and/or by certified state TRS programs pursuant to § 64.606; or

(ii) TRS facilities owned or operated under contract with a common carrier providing interstate services operated pursuant to § 64.604; or

(iii) Interstate common carriers offering TRS pursuant to § 64.604.

(2) Internet-based TRS providers eligible for receiving payments from the TRS fund must be certified by the Commission pursuant to § 64.606.

* * * * *

4. Section 64.606 is amended by revising paragraph (a)(2), by adding new paragraph (a)(3), by revising paragraphs (b)(2), (c)(2), (e)(2), and (g), and by adding new paragraph (h) to read as follows:

§ 64.606 VRS and IP Relay provider and TRS program certification.

(a) * * *

(2) Internet-based TRS provider. Any entity desiring to provide Internet-based TRS and to receive compensation from the Interstate TRS Fund, shall submit documentation to the Commission addressed to the Federal Communications Commission, Chief, Consumer and Governmental Affairs Bureau, TRS Certification Program, Washington, DC 20554, and captioned “Internet-based TRS Certification Application.” The documentation shall include, in narrative form:

(i) A description of the forms of Internet-based TRS to be provided (i.e., VRS, IP Relay, and/or IP captioned telephone relay service);

(ii) A detailed description of how the applicant will meet all non-waived mandatory minimum standards applicable to each form of TRS offered, including documentary and other evidence that the applicant owns and operates facilities associated with TRS call centers and employs interpreters, on a full or part-time basis, to staff such call centers at the date of the application. Such evidence shall include, but not be limited to:

(A) A copy of each deed or lease for each call center operated by the applicant;

(B) A list of individuals or entities that hold at least a 10 percent equity interest in the applicant, have the power to vote 10 percent or more of the securities of the applicant, or exercise de jure or de facto control over the applicant, a description of the applicant's organizational structure, and the names of its executives, officers, partners, and members of its board of directors;

(C) A list of all of the names of applicant's full-time and part-time employees on payroll;

(D) Proof of purchase or license agreement for use of all equipment and/or technologies, including hardware and software, used by the applicant for its call center functions, including but not limited to, automatic call distribution, routing, call setup, mapping, call features, billing for compensation from the TRS fund, and registration;

(E) Copies of employment agreements for all of the provider's executives and CAs;

(F) Copies of any subcontracting agreements pertaining to the provision of the Internet-based relay service other than services not directly essential for the provision of Internet-based relay (such as maintenance and transportation services);

(G) A list of all major financing arrangements pertaining to the provision of Internet-based relay service, including documentation on loans for equipment, inventory, property, promissory notes, and liens;

(H) Copies of all other agreements associated with the provision of Internet-based relay service; and

(I) A list of all sponsorship arrangements (e.g., those providing financial support or in-kind interpreting or personnel service for social activities in exchange for brand marketing), including any associated written agreements;

(iii) A description of the provider's complaint procedures;

(iv) Demonstration of the provider's status as a common carrier; and

(v) A statement that the provider will file annual compliance reports demonstrating continued compliance with these rules.

(3) Assessment of Internet-based TRS Provider Certification Application. In order to assess the merits of a certification application submitted by an Internet-based TRS provider, the Commission may conduct one or more on-site visits of the applicant's premises, to which the applicant must consent.

* * * * *

(b) * * *

(2) Requirements for Internet-based TRS Provider FCC certification. After review of certification documentation, the Commission shall certify, by Public Notice, that the Internet-based TRS provider is eligible for compensation from the Interstate TRS Fund if the Commission determines that the certification documentation:

(i) Establishes that the provision of Internet-based TRS will meet or exceed all non-waived operational, technical, and functional minimum standards contained in § 64.604;

(ii) Establishes that the Internet-based TRS provider makes available adequate procedures and remedies for ensuring compliance with the requirements of this section and the mandatory minimum standards contained in § 64.604, including that it makes available for TRS users informational materials on complaint procedures sufficient for users to know the proper procedures for filing complaints; and

* * * * *

(c) * * *

(2) Internet-based TRS Provider FCC certification period. Certification granted under this section shall remain in effect for five years. An Internet-based TRS provider may apply for renewal of its certification by filing updated documentation with the Commission, at least 90 days prior to expiration of certification, containing the information described in paragraph (a)(2) of this section.

* * * * *

(e) * * *

(2) Suspension or revocation of Internet-based TRS Provider FCC certification. The Commission may suspend or revoke the certification of an Internet-based TRS provider if, after notice and opportunity for hearing, the Commission determines that such certification is no longer warranted. The Commission may, on its own motion, require a certified Internet-based TRS provider to submit documentation demonstrating ongoing compliance with the Commission's minimum standards if, for example, the Commission receives evidence that a certified Internet-based TRS provider may not be in compliance with the minimum standards.

* * * * *

(g) Internet-based TRS providers certified under this section shall file with the Commission, on an annual basis, a report demonstrating that they are in compliance with § 64.604. Such reports must include the information required in paragraph (a)(2) of this section supported by current documentation.

(h) Unauthorized service interruptions. (1) Each certified Internet-based service provider must provide Internet-based TRS without unauthorized voluntary service interruptions.

(2) An Internet-based service provider seeking to voluntarily interrupt service must first obtain Commission authorization by submitting a written request to the Commission's Consumer and Governmental Affairs Bureau (CGB) at least 60 days prior to any planned service interruption, with detailed information of:

(i) Its justification for such interruption;

(ii) Its plan to notify customers about the impending interruption; and

(iii) Its plans for resuming service, so as to minimize the impact of such disruption on consumers through a smooth transition of temporary service to another provider, and restoration of its service at the completion of such interruption. CGB will grant or deny such a request and provide a response to the provider within 30 days of the proposed interruption, in order to afford an adequate period of notification to consumers. In evaluating such a request, CGB will consider such factors as the length of time of the proposed interruption, the reason for such interruption, the frequency with which such requests have been made by the provider in the past, the potential impact of the interruption on consumers, and the provider's plans for a smooth service restoration.

(3) In the event of a brief, unforeseen service interruption due to circumstances beyond a provider's control, the provider must submit a written notification to CGB within two business days of the commencement of the service interruption, with an explanation of how it has restored service or its plan to do so imminently.

(4) A certified provider that fails to obtain prior Commission authorization for a voluntary service interruption, or fails to provide written notification after the commencement of a service interruption in accordance with this subsection, may be subject to revocation of certification, suspension of payment from the TRS Fund, or other enforcement action by the Commission, as appropriate.

[FR Doc. 2011-10341 Filed 4-29-11; 8:45 am]

BILLING CODE 6712-01-P